DEPARTMENT OF COMMERCE

National Oceanic and Atmospheric Administration

[I.D. 081606A]

Atlantic Highly Migratory Species; U.S. Atlantic Swordfish Fishery Public Meetings

AGENCY: National Marine Fisheries Service (NMFS), National Oceanic and Atmospheric Administration (NOAA), Commerce.

ACTION: Notice; additional public meeting.

SUMMARY: On August 31, 2006, NMFS published in the Federal Register a notice announcing five public meetings to obtain from U.S. Atlantic swordfish fishery participants and other members of the public recommendations regarding potential management measures so as to fully harvest the swordfish quota allocated to the United States by the International Commission for the Conservation of Atlantic Tunas (ICCAT). In response to requests from swordfish fishery participants in South Florida, NMFS is adding an additional meeting in Fort Lauderdale, FL, in September 2006.

DATES: The public meeting will be held on September 27, 2006, from 7-9 p.m.

ADDRESSES: The public meeting will be held at the Broward County Main Library, 100 South Andrews Avenue, Fort Lauderdale, FL 33301.

FOR FURTHER INFORMATION CONTACT: Sari Kiraly at (301) 713-2347.

SUPPLEMENTARY INFORMATION: A notice announcing five public meetings (in Houma, LA; Manahawkin, NJ; Peabody, MA; Manteo, NC; and Panama City, FL) to obtain recommendations regarding potential management measures so as to fully harvest the Atlantic swordfish quota allocated to the United States by ICCAT was published in the Federal Register on August 31, 2006 (71 FR 51803). This notice announces an additional meeting.

Background

The U.S. Atlantic swordfish fishery is managed under the Fishery Management Plan for Atlantic Tunas, Swordfish and Sharks, and regulations at 50 CFR part 635 under the authority of the Magnuson-Stevens Fishery Conservation and Management Act (16 U.S.C. 1801 et seq.) and the Atlantic Tunas Convention Act (ATCA) (16 U.S.C. 971 et seq.). Regulations issued under the authority of ATCA implement the recommendations of ICCAT. In the last several years, the U.S. Atlantic swordfish fishery has not fully harvested the available quota allocated by ICCAT. The adjusted 2005 North Atlantic swordfish total quota was 6,336.1 mt dw, which included a baseline quota of 2,937.6 and a quota carry-over of 3,398.5 mt dw. The total U.S. North Atlantic quota allocation for the 2006 fishing year is 2,937.6 mt dw, and the carry-over is yet to be determined. NMFS anticipates that the pending September 2006 stock assessment may identify the North Atlantic swordfish stock as fully rebuilt. Fishermen and others have asked NMFS to assist in revitalizing this fishery. Also, at its November 2006 meeting ICCAT will likely review swordfish management measures and quota allocations. Therefore, NMFS is considering potential management measures for the U.S. Atlantic swordfish fishery that would address factors limiting the ability to catch the allocated quota, and to aid in revitalizing the fishery so that swordfish are harvested in a sustainable and economically viable manner, while bycatch is minimized to the extent practicable. At the September 27, 2006 public meeting NMFS wishes to obtain recommendations from swordfish fishery participants and other members of the public regarding potential management measures for the fishery to fully harvest the available quota.

Special Accommodations

The meeting will be physically accessible to people with disabilities. Requests for sign language interpretation or other auxiliary aids should be directed to Sari Kiraly at (301) 713-2347, no later than September 20, 2006.

Dated: September 7, 2006.
James P. Burgess,
Acting Director, Office of Sustainable Fisheries, National Marine Fisheries Service.

[FR Doc. E6-15197 Filed 9-12-06; 8:45 am]

BILLING CODE 3510-22-S